SMALL BUSINESS ADMINISTRATION

Disaster Declaration #12738 and #12739; Nebraska Disaster Number NE-00041

AGENCY: U.S. Small Business Administration.

ACTION: Amendment 2.

SUMMARY: This is an amendment of the Presidential declaration of a major disaster for the State of Nebraska (FEMA-4013-DR), dated 08/12/2011.

Incident: Flooding.

Incident Period: 05/24/2011 through 08/01/2011.

Effective Date: 11/18/2011.

Physical Loan Application Deadline Date: 10/11/2011.

EIDL Loan Application Deadline Date: 05/14/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of NEBRASKA, dated 08/12/2011 is hereby amended to include the following areas as adversely affected by the disaster:

Primary Counties: (Physical Damage and Economic Injury Loans) Thurston, including the Omaha Tribe of Nebraska and Iowa

Contiguous Counties: (Economic Injury Loans Only) All other information in the original declaration remains unchanged.

(Catalog of Federal Domestic Assistance Numbers 59002 and 59008)

Joseph P. Loddo,
Acting Associate Administrator, for Disaster Assistance.

[FR Doc. 2011-30937 Filed 12-1-11; 8:45 am]

BILLING CODE 8025-01-M